DEPARTMENT OF ENERGY

Federal Energy Regulatory Commission

[Docket No. IC17-8-000]

Commission Information Collection Activities (Ferc Form 73 and Ferc-600); Consolidated Comment Request; Extension

AGENCY: Federal Energy Regulatory Commission, Department of Energy.

ACTION: Notice of information collections and request for comments.

SUMMARY: In compliance with the requirements of the Paperwork Reduction Act of 1995, the Federal Energy Regulatory Commission (Commission or FERC) is soliciting public comment on the requirements and burden of the information collections described below.

DATES: Comments on the collections of information are due May 22, 2017.

ADDRESSES: You may submit comments (identified by Docket No. IC17-8-000) by either of the following methods:

• eFiling at Commission's Web site: http://www.ferc.gov/docs-filing/efiling.asp.

• Mail/Hand Delivery/Courier: Federal Energy Regulatory Commission, Secretary of the Commission, 888 First Street NE., Washington, DC 20426.

Please reference the specific collection number and/or title in your comments.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Type of Request: Three-year extension of the information collection requirements for all collections described below with no changes to the current reporting requirements. Please note that each collection is distinct from the next.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

FERC Form 73, Oil Pipeline Service Life Data

OMB Control No.: 1902-0019.

Abstract: The Commission has authority over interstate oil pipelines as stated in the Interstate Commerce Act, 49 U.S.C. 6501, et. al. As part of the information necessary for the subsequent investigation and review of an oil pipeline company's proposed depreciation rates, the pipeline companies are required to provide service life data as part of their data submissions if the proposed depreciation rates are based on the remaining physical life calculations. This service life data is submitted on FERC Form 73, “Oil Pipeline Service Life Data”. The FERC Form 73 is used by the Commission to implement the statutory provisions of Sections 306 and 402 of the Department of Energy Organization Act, 42 U.S.C. 7155 and 7172, and Executive Order No. 12009, 42 FR 46277 (September 13, 1977).¹

¹ For FERC Form 73 filing instructions and materials, please see http://www.ferc.gov/docs-filing/forms.asp#form73.

The submitted data are used by the Commission to assist in the selection of appropriate service lives and book depreciation rates. Book depreciation rates are used by oil pipeline companies to compute the depreciation portion of their operating expense which is a component of their cost of service which in turn is used to determine the transportation rate to assess customers. FERC staff's recommended book depreciation rates become legally binding when issued by Commission order. These rates remain in effect until a subsequent review is requested and the outcome indicates that a modification is justified. The Commission implements these filings in 18 CFR parts 347 and 357.

Type of Respondent: Oil Pipeline companies.

Estimate of Annual Burden: The Commission estimates the annual public reporting burden for the information collection as:

² $76.50/hour is the average of the salary plus benefits for FERC employees for 2017. We assume that respondents to this collection are similarly situated in terms of salary and benefits.

FERC Form 73, Oil Pipeline Service Life Data
| Number of respondents | Annual number of responses per respondent | Total number of responses | Average burden & cost per response ² | Total annual burden & total annual cost | Cost per respondent ($)
| (1) | (2) | (1) * (2) = (3) | (4) | (3) * (4) = (5) | (5) ÷ (1)
Oil Pipelines Undergoing Investigation or Review | 3 | 1 | 3 | 40 hrs.; $3,060 | 120 hrs.; $9,180 | 3,060

FERC-600, Rules of Practice and Procedure: Complaint Procedures

OMB Control No.: 1902-0180.

Abstract: The information is used by the Commission to implement the statutory provisions of the Federal Power Act (FPA), 16 U.S.C. 791a-825r; the Natural Gas Act (NGA), 15 U.S.C. 717-717w; the Natural Gas Policy Act (NGPA), 15 U.S.C. 3301-3432; the Public Utility Regulatory Policies Act of 1978 (PURPA), 16 U.S.C. 2601-2645; the Interstate Commerce Act (ICA), 49 U.S.C. App. 1 et. seq.; the Outer Continental Shelf Lands Act, 43 U.S.C. 1301-1356; and the Energy Policy Act of 2005, (Pub. L. 109-58) 119 Stat. 594.

For the natural gas industry, section 14(a) of the NGA ³ provides that the Commission may permit any person to file with it a statement in writing, under oath or otherwise, as it shall determine, as to any or all facts and circumstances concerning a matter which may be the subject of an investigation.

³ 15 U.S.C. 717m; accord 15 U.S.C. 717d.

For public utilities, section 307(a) of the FPA ⁴ provides that the Commission may permit any person to file with it a statement in writing, under oath or otherwise, as it shall determine, as to any or all facts and circumstances concerning a matter which may be the subject of an investigation.

⁴ 16 U.S.C. 825f(a); accord 16 U.S.C. 824e.

Section 215(d)(5) of the FPA ⁵ provides that the Commission, upon its own motion or upon complaint, may order the Electric Reliability Organization to submit to the Commission a proposed reliability standard or a modification to a reliability standard that addresses a specific matter if the Commission considers such a new or modified reliability standard appropriate to carry out this section.

⁵ 16 U.S.C. 824o(d)(5).

For hydropower projects, section 19 of the FPA ⁶ provides that, as a condition of a license, jurisdiction is conferred upon the Commission, upon complaint of any person aggrieved or upon its own initiative, to exercise such regulation and control over services, rates, and charges until such time as the State shall have provided a commission or other authority for such regulation and control.

⁶ 16 U.S.C. 812.

For qualifying facilities, section 210(h)(2)(B) of PURPA ⁷ provides that any electric utility, qualifying cogenerator, or qualifying small power producer may petition the Commission to enforce the requirements of the Commission's PURPA regulations.

⁷ 16 U.S.C. 824a-3(h)(2)(B).

For oil pipelines, in Part 1 of the Interstate Commerce Act, sections 1, 6 and 15 (recodified by Pub. L. 95-473 and found as an appendix to Title 49 U.S.C.),⁸ the Commission is authorized to investigate the rates charged by oil pipeline companies subject to its jurisdiction. If an oil rate has been filed and allowed by the Commission to go into effect without suspension and hearing, the Commission can investigate the effective rate on its own motion or by complaint filed with the Commission. Section 13 of the ICA ⁹ provides that any person can file a complaint complaining of anything done or omitted to be done by an oil pipeline.

⁸ 49 App. U.S.C. 1 et seq. (1988).

⁹ Id. 13.

In Order No. 602,¹⁰ the Commission revised its regulations governing complaints filed with the Commission under the above statutes. Order No. 602 was designed to encourage and support consensual resolution of complaints, and to organize the complaint procedures so that all complaints are handled in a timely and fair manner. In order to achieve this result, the Commission revised Rule 206 of its Rules of Practice and Procedure (18 CFR 385.206) to require that a complaint satisfy certain informational requirements, to require that answers be filed in a shorter, 20-day time frame, and to provide that parties may employ various types of alternative dispute resolution procedures to resolve their disputes.

¹⁰ 64 FR 17087 (April 8, 1999).

The data in complaints filed by interested/affected parties regarding jurisdictional oil, natural gas, electric and hydropower operations, facilities, and services are used by the Commission in establishing a basis to make an initial determination regarding the merits of the complaint and whether or not to undertake further investigation. Investigations may range from whether there is undue discrimination in rates or services to questions regarding market power of regulated entities to environmental concerns. In order to make an informed determination, it is important to know the specifics underlying any oil, gas, electric, and hydropower complaint “up-front” in a timely manner and in sufficient detail to allow the Commission to act swiftly. In addition, such complaint data helps the Commission and interested parties to monitor, e.g., the market for undue discrimination or exercises of market power. The information is voluntary but submitted pursuant to prescribed filing requirements. The Commission implements these filing requirements in the Code of Federal Regulations (CFR) under 18 CFR parts 343 and 385.

Type of Respondent: Interested/affected parties regarding oil, natural gas, electric and hydropower operations, facilities, and services.

Estimate of Annual Burden: The Commission estimates the annual public reporting burden for the information collection as:

FERC-600—Rules of Practice and Procedure: Complaint Procedures
| Number of respondents | Annual number of responses per respondent | Total number of responses | Average burden and cost per response ² | Total annual burden and total annual cost | Cost per respondent ($)
| (1) | (2) | (1) * (2) = (3) | (4) | (3) * (4) = (5) | (5) ÷ (1)
FERC-600 | 62 | 1 | 62 | 160 hrs.; $12,240 | 9,920 hrs.; $758,880 | 12,240

Dated: March 16, 2017.
Kimberly D. Bose,
Secretary.

[FR Doc. 2017-05790 Filed 3-22-17; 8:45 am]

BILLING CODE 6717-01-P